DEPARTMENT OF DEFENSE

Department of the Army

Notice of Availability (NOA) for the Supplemental Final Environmental Impact Statement (SFEIS) for the Proposed Addition of Maneuver Training Land at Fort Irwin, CA

AGENCY: Department of the Army, DoD.

ACTION: Notice of availability.

SUMMARY: This announces the availability of the SFEIS for the Proposed Addition of Maneuver Training Land at Fort Irwin. The SFEIS assesses the potential environmental impacts of the addition of maneuver lands to supplement the current training corridors at the National Training Center at Fort Irwin in the Mojave Desert of California by approximately 118,674 acres. The proposed expanded maneuver training will improve necessary field training by providing a more realistic battle corridor. The cooperating agencies for this project are: Bureau of Land Management (as the administrator of the vast majority of the lands within the study area), the National Aeronautics and Space Administration (as a tenant on Fort Irwin), and the Federal Aviation Administration (as some of the alternatives involve possible changes to airspace).

DATES: The waiting period for the SFEIS will end 30 days after publication of the NOA in the Federal Register by the U.S. Environmental Protection Agency. No sooner than the expiration of the waiting period, the Army will sign a Record of Decision (ROD). A Notice of Availability of the ROD will also be published in the Federal Register.

ADDRESSES: Direct questions and/or written comments regarding the SFEIS to, or request a copy of the document from, Ms. Jennifer Barry, Strategic Planning Office, PO Box 10309, Fort Irwin, California 92310.

FOR FURTHER INFORMATION CONTACT: Ms. Jennifer Barry at (760) 380-6174; by e-mail at Jennifer.Barry@irwin.army.mil; or by facsimile at (760) 380-6171.

SUPPLEMENTARY INFORMATION: The SFEIS analyzed the following six alternatives to meet the need for additional maneuver training lands at Fort Irwin:

(1) Alternative 1 (preferred alternative) analyzed expanding training to the east and west to include reintroduction of training in Fort Irwin lands previously set aside to the south (UTM 90 area). Additional lands totaling approximately 150,510 acres would be added to the available training lands.

(2) Alternative 2 analyzed expanding training to the east and the south, including the UTM 90 area. Additional lands totaling approximately 156,340 acres would be added to the available training lands.

(3) Alternative 3 analyzed expanding training to the east. Additional lands totaling approximately 48,760 acres would be added to the available training lands.

(4) Alternative 4 analyzed expanding training to the east, west, and south to include reintroducing the UTM 90 area. Additional lands totaling approximately 185,301 acres would be added to the available training lands.

(5) Alternative 5 analyzed expanding training to the east and reintroduction of the UTM 90 area. Additional lands totaling approximately 72,060 acres would be added to the available training lands.

(6) Alternative 6 analyzed no action, under which no expansion would occur and training would continue as currently exists. The Congressionally withdrawn lands would be managed under the Interim Management Plan until further disposition was decided.

Public involvement for this project has included five scoping sessions held for the Supplemental Draft Environmental Impact Statement (SDEIS) which began in November 2001 and ended in January 2002; a 45-day public review of the SDEIS, with a 15-day extension; and public hearings at various locations throughout southern California to receive public comment on the SDEIS. Written comments and other forms of input from public and private entities were addressed in the SFEIS.

Copies of the SFEIS are available for review at the following libraries: Library of Congress; Riverside Main Library; San Diego County Library; and San Bernardino County Libraries at the following locations: Hesperia, San Bernardino, Apple Valley, Trona, Barstow, Big Bear, Lucerne Valley, Victorville, Wrightwood, and Yucca Valley.

The SFEIS may also be viewed at the Land Expansion Web Site: http://fortirwindlandexpansion.com.

Dated: January 10, 2006.
Addison D. Davis, IV,
Deputy Assistant Secretary of the Army (Environment, Safety and Occupational Health) DASA (ESOH).

[FR Doc. 06-475 Filed 1-18-06; 8:45 am]

BILLING CODE 3710-08-M